FEDERAL FINANCIAL INSTITUTIONS EXAMINATION COUNCIL

[Docket No. AS24-08]

Agency Information Collection Activities; Standardized Instructions and Format To Be Used for Interim and Final Progress Reporting

AGENCY: Appraisal Subcommittee of the Federal Financial Institutions Examination Council.

ACTION: Request for comment.

SUMMARY: The Appraisal Subcommittee (ASC) is issuing this Notice of Request (Notice) for public comment on the standardized Appraisal Subcommittee Progress Report (ASC-PR) format to be used for both interim and final progress reporting for all ASC grants and submission to the Office of Management and Budget (OMB) of proposed collection of information. In conjunction with the Paperwork Reduction Act of 1995, the ASC has submitted to the OMB a request for review and approval of information collection listed below. The purpose of this Notice is to allow an additional 30 days for public comment from all interested individuals and organizations.

DATES: Written comments must be received on or before May 1, 2024 to be assured of consideration.

ADDRESSES: Written comments and recommendations for the proposed information collection should be sent to www.reginfo.gov/public/do/PRAMain. Find this particular information collection by selecting “Currently under 30-day Review—Open for Public Comments” or by using the search function.

FOR FURTHER INFORMATION CONTACT: For information on the ASC-PR, contact Regeane Frederique, Grants Director, ASC at 202-792-1168 or Regeane@asc.gov.

SUPPLEMENTARY INFORMATION: This proposed information collection was previously published in the Federal Register on January 8, 2024 at 89 FR 917 and allowed 60 days for public comment. No comments were received to that notice.

Title: ASC Progress Report Standardized Instructions and Format for Interim and Final Progress Reporting

The ASC has established new grant-making programs and is responsible for monitoring its grantees on the use of federal funds. The ASC developed this progress report for both interim and final progress reports for grants issued under ASC authority. The progress report will be submitted to the ASC semi-annually as an attachment to the Standard Form 425, Federal Financial Report. A draft version of the instructions and format for the report is posted on the ASC website at https://www.asc.gov/Documents/GrantsFundingCorrespondence/PR-FFR%20Reporting%20Instructions%20and%20Form.pdf. The report will benefit award recipients by making it easier for them to administer federal grant and cooperative agreement programs through standardization of the types of information required in progress reports, thereby reducing their administrative effort and costs.

OMB Number: 3139-0010.

Burden Estimates:

Type of Review: Regular.

Affected Public: All ASC grantees.

Estimated Number of Respondents: 54.

Estimated Burden per Response: 1 hour.

Frequency of Response: Twice per year (semi-annual and annual report).

Estimated Total Annual Burden: 108 hours.

By the Appraisal Subcommittee.
James R. Park,
Executive Director.

[FR Doc. 2024-06796 Filed 3-29-24; 8:45 am]

BILLING CODE 6700-01-P